DEPARTMENT OF HOMELAND SECURITY

Coast Guard

[USCG-2006-25096]

Towing Safety Advisory Committee; Notice of Open Teleconference Meetings

AGENCY: Coast Guard, DHS.

ACTION: Notice of meetings.

SUMMARY: This notice announces a teleconference of the Towing Safety Advisory Committee (TSAC). The purpose of this teleconference is for TSAC to present its comments to the Coast Guard on the joint Transportation Security Administration's (TSA) and Coast Guard's Transportation Worker's Identification Credential (TWIC) proposed rule and on the Coast Guard's Merchant Mariner Credential (MMC) proposed rule.

DATES: The teleconference call will take place on Wednesday, July 12th, 2006, from 12:30 p.m. until 2:30 p.m. EDT. The meeting may adjourn early if all business is finished.

ADDRESSES: Members of the public may participate by dialing 1-202-366-3920, pass code 4803. Public participation is welcomed; however, the number of teleconference lines is limited and available on a first-come, first-served basis. Members of the public may also participate by coming to Room 3317, U.S. Coast Guard Headquarters, 2100 Second Street, SW., Washington, DC 20593-0001.

FOR FURTHER INFORMATION CONTACT: For questions on this notice, contact Mr. Gerald Miante, Assistant Executive Director TSAC, telephone 202-372-1401, fax 202-372-1926, or e-mail gmiante@comdt.uscg.mil.

SUPPLEMENTARY INFORMATION: TSAC advises, consults with, and makes recommendations to the Secretary DHS on matters relating to shallow-draft inland and coastal waterway navigation and towing safety. Notice of these meetings is given under the Federal Advisory Committee Act, 5 U.S.C. App. 2 (Pub. L. 92-463, 86 Stat. 770, as amended). The subject proposed rulemakings are available on the Internet at http://dms.dot.gov under the docket numbers 24191 (TSA TWIC), 24196 (USCG TWIC), and 24371 (USCG MMC). Once on the DMS Web site, click “simple search” and enter the appropriate number.

Tentative Agenda

• Welcome and Opening Remarks—TSAC Chairman.

• Discussion, presentation and voting of the Committee's comments to the Coast Guard on the Transportation Security Administration's (TSA) Transportation Worker's Identification Credential (TWIC) proposed rules and on the Coast Guard's Merchant Mariner Credential (MMC) proposed rule.

• Public comment period (as time permits).

• Meeting adjourned—1430.

Procedural

This meeting is open to the public. Please note that the meeting may adjourn early if all business is finished. At the Chair's discretion, members of the public may make oral presentations during the meeting. If you would like to make an oral presentation at the meeting, please notify Mr. Miante no later than July 5, 2006.

Information on Services for Individuals With Disabilities

For information on facilities or services for individuals with disabilities or to request special assistance at the meetings, contact Mr. Miante as soon as possible.

Dated: June 19, 2006.
Howard L. Hime,
Acting Director of Standards, Marine Safety Security & Environmental Protection.

[FR Doc. E6-10063 Filed 6-26-06; 8:45 am]

BILLING CODE 4910-15-P